ENVIRONMENTAL PROTECTION AGENCY

[EPA-HQ-OW-2004-0013; FRL-9986-35-OW]

Proposed Information Collection Request; Comment Request; EPA Strategic Plan Information on Source Water Protection

AGENCY: Environmental Protection Agency.

ACTION: Notice.

SUMMARY: The U.S. Environmental Protection Agency (EPA) is planning to submit an information collection request (ICR), “EPA Strategic Plan Information on Source Water Protection” (EPA ICR No. 1816.07, OMB Control No. 2040-0197) to the Office of Management and Budget (OMB) for review and approval in accordance with the Paperwork Reduction Act (PRA). Before doing so, the EPA is soliciting public comments on specific aspects of the proposed information collection as described in this renewal notice. This is a proposed renewal of the existing ICR, which is approved through March 31, 2019. An Agency may not conduct or sponsor and a person is not required to respond to a collection of information unless it displays a currently valid OMB control number.

DATES: Comments must be submitted on or before January 8, 2019.

ADDRESSES: Submit your comments, identified by Docket ID No. EPA-HQ-OW-2004-0013, on-line using www.regulations.gov (our preferred method), by email to the OW Docket at OW-Docket@epa.gov or by mail to the Water Docket, Environmental Protection Agency, EPA Docket Center (WJC West), MC 28221T, 1200 Pennsylvania Ave. NW, Washington, DC 20460. The EPA's policy is that all comments received will be included in the public docket without change, including any personal information provided, unless the comment includes profanities, threats, information claimed to be Confidential Business Information (CBI) or other information whose disclosure is restricted by statute.

FOR FURTHER INFORMATION CONTACT: Sherri Comerford, Drinking Water Protection Division—Prevention Branch, Office of Ground Water and Drinking Water (MC 4606M), Environmental Protection Agency, 1200 Pennsylvania Ave. NW, Washington, DC 20460; telephone number: 202-564-4639; fax number: 202-564-3756; email address: comerford.sherri@epa.gov.

SUPPLEMENTARY INFORMATION: Supporting documents that explain in detail the information that the EPA will be collecting are available in the public docket for this ICR. The docket can be viewed online at http://www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA specifically solicits comments and information to enable it to (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology. The EPA will consider the comments received and amend the ICR as appropriate. The final ICR package will then be submitted to OMB for review and approval. At that time, the EPA will issue another Federal Register notice to announce the submission of the ICR to OMB and the opportunity to submit additional comments to OMB.

Abstract: The EPA is collecting data from the states on their progress toward substantial implementation of protection strategies for all community water systems (CWSs). The EPA and states use this voluntary collection of data to understand the progress toward the Agency's goal of increasing the percentage of CWSs (and the populations they serve) where risk is minimized through source water protection. The EPA specifically tracks the percentage of all CWSs that are implementing source water protection and the percentage of the total population which is served by those systems.

Form Numbers: None.

Respondents/affected entities: 51.

Respondent's obligation to respond: Voluntary.

Frequency of response: Quarterly.

Total estimated annual burden: 684 hours. Burden is defined at 5 CFR 1320.03(b).

Total estimated cost: $29,706 (per year).

Changes in Estimates: The EPA anticipates the annual totals for estimated burden and costs at 684 hours and $29,670, respectively. This is a two-fold increase due to voluntary reporting that would increase in frequency from annual to quarterly. State databases are fully developed and tracking is routine, which the EPA believes will result in efficiencies that would allow states to minimize hourly burden and cost.

Dated: November 1, 2018.
Peter Grevatt,
Director, Office of Ground Water and Drinking Water.

[FR Doc. 2018-24580 Filed 11-8-18; 8:45 am]

BILLING CODE 6560-50-P